NATIONAL SCIENCE FOUNDATION

National Science Board ad hoc Committee on NSB Nominees for Class of 2006-2012; Sunshine Act Meeting

Date and Time: October 4, 2004 3 p.m.-4 p.m.

Place: National Science Foundation, 4201 Wilson Boulevard, Arlington, VA 22230.

Status: This meeting will be closed to the public.

Matters to be Considered: Nominees for appointment as NSB members.

FOR FURTHER INFORMATION CONTACT: Dr. Michael P. Crosby,Executive Officer and NSB Office Director, (703) 292-7000, http://www.nsf.gov/nsb.

Michael P. Crosby,
Executive Officer and NSB Office Director.

[FR Doc. 04-21330 Filed 9-17-04; 4:26 pm]

BILLING CODE 7555-01-P